DEPARTMENT OF ENERGY

Federal Energy Regulatory Commission

[Project No. 13533-000]

Lock + TM Hydro Friends Fund XXVII, LLC; Notice of Preliminary Permit Application Accepted for Filing and Soliciting Comments, Motions To Intervene, and Competing Applications

September 4, 2009.

On July 6, 2009, Lock + TM Hydro Friends Fund XXVII, LLC, filed an application, pursuant to section 4(f) of the Federal Power Act, proposing to study the feasibility of the Redd Foxx Hydroelectric Project, to be located on the Fox River, in Winnebago County, Wisconsin.

The proposed Redd Foxx Project would be located at the U.S. Army Corps of Engineers Fox River Menasha Locks Dam near Menasha, Wisconsin.

The proposed project would consist of: (1) One new underwater frame module containing nine turbines with a total installed capacity of about 4.73 megawatts which would be installed east of the dam in a conduit located adjacent to the Corps' active lock; (2) a new removable lock door; (3) a new switchyard, transformer, and control room; (4) a new 1000-foot-long, 36.7 kilovolt transmission line, which would deliver power from the turbines to an existing transformer tie-in bus located at the Corps' lock and dam facilities; and (5) appurtenant facilities. The Redd Foxx Project would have an estimated average annual generation of about 37,278 megawatts-hours, which would be sold to a local utility.

Applicant Contact: Mr. Wayne F. Krouse, Chairman & CEO, Hydro Green Energy, LLC and Managing Partner, Lock+ Hydro Friends Fund XXVII, 5090 Richmond Avenue #390, Houston, TX 77056, 877-556-6566 x709, wayne@hgenergy.com.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13533) in the docket number field to access the document. For assistance, call toll-free 1-866-208-3372.

Kimberly D. Bose,
Secretary.

[FR Doc. E9-22095 Filed 9-14-09; 8:45 am]

BILLING CODE 6717-01-P